COMMODITY FUTURES TRADING COMMISSION

Technology Advisory Committee Meeting

AGENCY: Commodity Futures Trading Commission (“CFTC”).

ACTION: Notice of meeting of Technology Advisory Committee.

SUMMARY: The Technology Advisory Committee will hold a public meeting on October 12, 2010, from 1 p.m. to 5 p.m., at the CFTC's Washington, DC headquarters.

DATES: The meeting will be held on October 12, 2010 from 1 p.m. to 5 p.m. Members of the public who wish to submit written statements in connection with the meeting should submit them by October 11, 2010.

ADDRESSES: The meeting will take place in the first floor hearing room at the CFTC's headquarters, Three Lafayette Centre, 1155 21st Street, NW., Washington, DC 20581. Written statements should be submitted to: Commodity Futures Trading Commission, Three Lafayette Centre, 1155 21st Street, NW., Washington, DC 20581, attention: Office of the Secretary. Please use the title “Technology Advisory Committee” in any written statement you may submit. Any statements submitted in connection with the committee meeting will be made available to the public.

FOR FURTHER INFORMATION CONTACT: Laura Gardy, Commodity Futures Trading Commission, Three Lafayette Centre, 1155 21st Street, NW., Washington, DC 20581, (202) 418-5354.

SUPPLEMENTARY INFORMATION: The agenda for the meeting is as follows:

Opening Remarks

Overview of Meeting and Introduction of Presenters

Panel I: CFTC Staff Briefing on Disruptive Trading Practices and New Anti-Manipulation Rulemaking

Panel II: High Frequency Trading, Algorithmic Trading and Direct Market Access (DMA) Rules and Best Practices

Panel III: Swap Execution Facilities (SEFs): Which Models Provide the Best Opportunity To Achieve Statutory Goals and Support Regulatory Objectives? Where does technology need to take us to provide for pre-trade transparency?

Panel IV: Swap Data Repositories (SDRs): Real Time Reporting, Data Elements, and Interim Requirements: Identifying the Most Effective Procedures and Processes for the Collection, Transfer, and Aggregation of Data

Concluding Remarks and Discussion of Topics for Next Meeting

The meeting will be webcast on the CFTC's Web site, http://www.cftc.gov. Members of the public also can listen to the meeting by telephone. The public access call-in numbers will be announced at a later date.

Authority: 5 U.S.C. app. 2 10(a)(2) .

Dated: September 20, 2010.
By the Commodity Futures Trading Commission.
David A. Stawick,
Secretary of the Commission.

[FR Doc. 2010-23870 Filed 9-23-10; 8:45 am]

BILLING CODE 6351-01-P